DEPARTMENT OF COMMERCE

National Oceanic and Atmospheric Administration

Proposed Information Collection; Comment Request; Evaluation of NOAA's Chesapeake Bay Watershed Education and Training Programs

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before October 3, 2005.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Shannon Sprague, 410-267-5664 or shannon.sprague@noaa.gov.

SUPPLEMENTARY INFORMATION:

I. Abstract

In 2002 the National Oceanic and Atmospheric Administration (NOAA) began administering the Bay Watershed Education and Training (B-WET) Program to offer competitive grants to support implementation of the Chesapeake 2000 Agreement. This will be achieved by promoting success on the agreement's significant goal for education and outreach: Beginning with the class of 2005, provide a meaningful Bay or stream outdoor experience for every school student in the watershed before graduation from high school. (Chesapeake 2000 Agreement).

The B-WET Program funding, over $2 million per year, assists school jurisdictions in providing “Meaningful Watershed Educational Experiences” (MWEEs) to all students before they graduate from high school. B-WET funding is awarded to organizations that provide MWEEs directly to students and to organizations that provide professional development to teachers, training them to conduct MWEEs with their students. For FY2005, 32 organizations, including non-profits, school districts, state agencies, and universities, are funded to provide MWEEs to over 27,000 students and professional development to over 2,000 teachers.

Through this evaluation, NOAA seeks to learn how B-WET-funded programs implement MWEEs and what outcomes are being achieved. In particular, the information collected will determine whether B-WET-funded MWEE programs are improving students' stewardship and academic achievement and building teachers' confidence in implementing MWEEs with their students. The evaluation's results will be used by NOAA B-WET managers to document the effects of currently-funded programs, inform future funding decisions, and identify critical “lessons learned” to share with national education communities. The instruments developed as part of this initial evaluation will also be made available to B-WET Program providers for their use in monitoring their individual programs' effectiveness.

II. Method of Collection

Depending on the response group, either paper questionnaires, electronic questionnaires, or telephone interviews are required from participants, and methods of submittal include Internet and postal service transmission of paper forms.

III. Data

OMB Number: 0648-0530.

Form Number: None.

Type of Review: Regular submission.

Affected Public: Individuals or households; not-for-profit institutions; and state, local, or tribal governments.

Estimated Number of Respondents: 7,427.

Estimated Time Per Response: 0.5 hours for students; 0.33 hours for teachers; 1 hour for program providers; 0.33 hours for professional development teachers; 1 hour for professional development program providers; and 0.33 hours for past professional development teachers.

Estimated Total Annual Burden Hours: 4,838.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: July 28, 2005.
Gwellnar Banks,
Management Analyst, Office of the Chief Information Officer.

[FR Doc. 05-15264 Filed 8-2-05; 8:45 am]

BILLING CODE 3510-12-P